DEPARTMENT OF TRANSPORTATION

National Highway Traffic Safety Administration

49 CFR Parts 541, 543, and 545

[Docket No. NHTSA-05-21233; Notice 2]

Federal Motor Vehicle Theft Prevention Standard

AGENCY: National Highway Traffic Safety Administration (NHTSA), Department of Transportation (DOT).

ACTION: Denial of petition for reconsideration.

SUMMARY: This document denies a petition for reconsideration of the agency's newly expanded parts marking requirements. The Anti Car Theft Act of 1992 required NHTSA to conduct a rulemaking to extend the parts marking requirements of that Standard to all passenger cars and multipurpose passenger vehicles with a gross vehicle weight rating of 6,000 pounds or less regardless of theft rate, unless the Attorney General found that such a requirement would not substantially inhibit chop shop operations and motor vehicle thefts. The initial final rule extending the parts marking requirement was published in April of 2004. In May 2005, NHTSA responded to petitions for reconsideration of the April 2004 final rule and established a phase in schedule for the new requirements. We also decided to exclude vehicle lines with annual production of not more than 3,500 vehicles from the parts marking requirements because the benefits of marking these vehicle lines would be trivial or of no value.

The agency received a petition for reconsideration of the May 2005 final rule from International Association of Auto Theft Investigators. The petition asked the agency to reconsider the phase-in and small volume exclusion as it applied to large volume vehicle manufacturers. This document denies that petition because it did not provide sufficient information in support of their request to reconsider the May 2005 final rule.

FOR FURTHER INFORMATION CONTACT: For technical and policy issues, you may call Rosalind Proctor, Office of International Policy, Fuel Economy and Consumer Programs, (Telephone: 202-366-0846) (Fax: 202-493-2290).

For legal issues, you may call George Feygin, Office of Chief Counsel (Telephone: 202-366-2992) (Fax: 202-366-3820).

SUPPLEMENTARY INFORMATION: On April 6, 2004, the agency published a final rule extending the anti-theft parts marking requirements (Part 541) to (1) all below median theft rate passenger cars and multipurpose passenger vehicles (MPVs) that have a gross vehicle weight rating (GVWR) of 6,000 pounds or less, and (2) all below median theft rate light duty trucks with a GVWR of 6,000 pounds or less and major parts that are interchangeable with a majority of the covered major parts of passenger cars or MPVs subject to the parts marking requirements.¹ (69 FR 17960) The Anti Car Theft Act of 1992 required this final rule unless the Attorney General made a finding that the extension would not substantially inhibit chop shop operations and motor vehicle thefts. The final rule is effective September 1, 2006.

¹ Above median theft rate LDTs are still subject to the parts marking requirements. Below median theft rate LDTs which do not have major parts that are interchangeable are not subject to the requirements.

On May 19, 2005, the agency published a final rule responding to petitions for reconsideration of the 2004 final rule.² Among other things, the May 2005 final rule excluded vehicle lines with annual production of not more than 3,500 vehicles from parts marking requirements because the benefits of marking these vehicle lines would be trivial or of no value. This exclusion applies to all vehicle manufacturers regardless of overall production volume. We also adopted a phase-in of the new parts marking requirements over a two-year period. Specifically, car lines representing not less than 50% of a manufacturer's production of vehicle lines that were not subject to parts marking requirements before September 1, 2006, must be marked effective September 1, 2006. The remaining vehicle lines must be marked effective September 1, 2007. Vehicle lines already subject to parts marking requirements are unaffected by this phase-in.

² See 70 FR 28843, Docket No. NHTSA-2005-21233.

The agency received a petition for reconsideration of the May 2005 final rule, from the International Association of Auto Theft Investigators. The petition asked the agency to reconsider the phase-in and the small volume exemption.

With regard to the phase-in, the petition provided no argument on why the agency should reconsider the phase-in. In deciding to adopt the phase-in, the agency balanced the benefits of parts marking against the practical burdens associated with implementing the expansion of parts marking. The agency decided to adopt the phase-in because the expanded time frame eliminates any argument about the practicability of expanding parts marking. The petitioner stated their objection to the phase-in, but provided no information indicating that the expansion would be practicable without it.

With regard to the small volume exemption, the petitioner argues that this is a “Small Business Exemption,” and that allowing large companies to claim such an exemption was not the intent of Congress. The agency's decision to exclude small volume vehicle lines was not based on the size of the manufacturer. Instead, the agency's decision was based on an analysis that the benefits of marking small volume vehicle lines would be de minimis. The petitioner provided no explanation as to why this analysis was incorrect.

For these reasons, the agency is denying the International Association of Auto Theft Investigators' petition. In accordance with 49 CFR part 553, this completes the agency review of the petition for reconsideration.

Issued on: November 10, 2005.
Stephen R. Kratzke,
Associate Administrator for Rulemaking.

[FR Doc. 05-22819 Filed 11-16-05; 8:45 am]

BILLING CODE 4910-59-P